DEPARTMENT OF ENERGY

Federal Energy Regulatory Commission

Sunshine Act Meeting Notice

January 23, 2002.

The following notice of meeting is published pursuant to section 3(A) of the government in the Sunshine Act (Pub. L. No. 94-409), 5 U.S.C 552B:

AGENCY HOLDING MEETING: Federal Energy Regulatory Commission.

DATE AND TIME: January 30, 2002, 10:00 A.M.

PLACE: Room 2C, 888 First Street, NE., Washington, DC 20426.

STATUS: Open

MATTERS TO BE CONSIDERED: Agenda *Note—Items listed on the agenda may be deleted without further notice.

CONTACT PERSON FOR MORE INFORMATION: Linwood A. Watson, Jr., Acting Secretary, Telephone (202) 208-0400, for a recording listing items stricken from or added to the meeting, call (202) 208-1627.

This is a list of matters to be considered by the commission. It does not include a listing of all papers relevant to the items on the agenda; however, all public documents may be examined in the reference and information center.

783rd—Meeting January 30, 2002 Regular Meeting 10:00 A.M.

Administrative Agenda

A-1.

DOCKET# AD02-1, 000, Agency Administrative Matters

A-2.

DOCKET# AD02-7, 000, Customer Matters, Reliability, Security and Market Operations

Markets, Tariffs and Rates—Electric

E-1.

DOCKET# AD02-6, 000, Infrastructure Discussion in the Northeast

E-2.

DOCKET# AD01-3, 000, California Infrastructure Update

E-3.

DOCKET# EX02-8, 000, Market Power

E-4.

DOCKET# EX02-10, 000, Report on the Economic Impacts on Western Utilities and Ratepayers of Price Caps on Spot Market Sales

E-5.

DOCKET# ER02-485, 000, Midwest Independent Transmission System Operator, Inc.

E-6.

OMITTED

E-7.

DOCKET# ER02-479, 000, Pacific Gas and Electric Company

OTHER#S ER02-250, 000, California Independent System Operator Corporation

ER02-527, 000, California Independent System Operator Corporation

E-8.

DOCKET# ER01-3142, 000, Midwest Independent Transmission System Operator, Inc.

OTHER#S ER01-3142, 001, Midwest Independent Transmission System Operator, Inc.

ER01-3142, 002, Midwest Independent Transmission System Operator, Inc.

ER01-3142, 003, Midwest Independent Transmission System Operator, Inc.

ER01-3142, 004, Midwest Independent Transmission System Operator, Inc.

E-9.

DOCKET# ER02-239, 000, Duke Energy South Bay LLC

OTHER#S ER02-239, 001, Duke Energy South Bay LLC

ER02-239, 002, Duke Energy South Bay LLC

E-10.

DOCKET# ER02-540, 000, Michigan Electric Transmission Company

E-11.

DOCKET# ER01-1107, 000, American Transmission Company LLC

E-12.

OMITTED

E-13.

DOCKET# ER01-2758, 000, Sierra Pacific Power Company and Nevada Power Company

OTHER#S ER01-2754, 000, Nevada Power Company

ER01-2754, 001, Nevada Power Company

ER01-2755, 000, Nevada Power Company

ER01-2755, 001, Nevada Power Company

ER01-2758, 001, Sierra Pacific Power Company and Nevada Power Company

ER01-2759, 000, Sierra Pacific Power Company and Nevada Power Company

ER01-2759, 001, Sierra Pacific Power Company and Nevada Power Company

E-14.

OMITTED

E-15.

DOCKET# RT01-98, 002, PJM Interconnection, L.L.C. and Allegheny Power

E-16.

OMITTED

E-17.

DOCKET# EC02-28, 000, International Transmission Company

E-18.

DOCKET# EC02-5, 000, Vermont Yankee Nuclear Power Corporation and Entergy Nuclear Vermont Yankee, LLC

OTHER#S ER02-211, 000, Vermont Yankee Nuclear Power Corporation and Entergy Nuclear Vermont Yankee, LLC

EL02-53, 000, Vermont Yankee Nuclear Power Corporation and Entergy Nuclear Vermont Yankee, LLC

E-19.

OMITTED

E-20.

OMITTED

E-21.

DOCKET# ER01-3034, 002, Duke Energy Oakland, LLC

E-22.

DOCKET# ER01-3009, 001, New York Independent System Operator, Inc.

OTHER#S EL00-90, 001, Morgan Stanley Capital Group, Inc. v. New York Independent System Operator, Inc.

ER01-3009, 002, New York Independent System Operator, Inc.

ER01-3153, 001, New York Independent System Operator, Inc.

ER01-3153, 002, New York Independent System Operator, Inc.

EL00-90, 002, Morgan Stanley Capital Group, Inc. v. New York Independent System Operator, Inc.

E-23.

DOCKET# ER01-3003, 001, Mid-Continent Area Power Pool

E-24.

DOCKET# ER01-3047, 001, California Independent System Operator Corporation

E-25.

DOCKET# EL01-94, 001, Rumford Power Associates, LP v. Central Maine Power Company

E-26.

DOCKET# OA97-24, 006, Central Power and Light Company

OTHER#S ER97-881, 003, West Texas Utilities Company

ER98-4609, 003, Southwestern Electric Power Company

ER98-4611, 004, Public Service Company of Oklahoma

E-27.

DOCKET# ER01-2126, 004, Michigan Electric Transmission Company

OTHER#S ER01-2375, 003, Michigan Electric Transmission Company

ER01-3075, 002, Michigan Electric Transmission Company

E-28.

DOCKET# EL00-73, 003, Mansfield Municipal Electric Department and North Attleborough Electric Department v. New England Power Company

E-29.

OMITTED

E-30.

DOCKET# EL00-62, 040, ISO New England Inc.

E-31.

DOCKET# EC01-151, 001, Otter Tail Power Company

E-32.

DOCKET# EC01-49, 002, PG&E National Energy Group, LLC and PG&E National Energy Group, Inc., on behalf of Themselves and Their Public Utility Subsidiaries

OTHER#S EC01-41, 002, PG&E National Energy Group, Inc., PG&E Enterprises, and PG&E Shareholdings, Inc., on behalf of Themselves and Their Public Utility Subsidiaries

E-33.

DOCKET# ER01-2536, 002, New York Independent System Operator, Inc.

E-34.

OMITTED

E-35.

DOCKET# EL00-95, 054, San Diego Gas & Electric Company v. Sellers of Energy and Ancillary Services into Markets Operated by the California Independent System Operator Corporation and the California Power Exchange Corporation

E-36.

DOCKET# ER01-702, 001, American Transmission Company LLC

OTHER#S OA01-7, 000, Edison Sault Electric Company

OA01-8, 000, Wisconsin Electric Power Company

E-37.

DOCKET# EL01-121, 000, Wheelabrator Lassen Inc.

OTHER#S QF81-21, 004, Wheelabrator Lassen Inc.

E-38.

DOCKET# EL01-65, 000, CAlifornians for Renewable Energy, Inc. v. British Columbia Hydro and Power Authority, Powerex Corporation, Southern Energy Marketing Company (Mirant) and Bonneville Power Administration

E-39.

DOCKET# EL02-42, 000, Dynegy Power Marketing, Inc., Mirant Americas Energy Marketing, LP, Mirant California, LLC and Williams Energy Marketing & Trading Company v. California Independent System Operator Corporation

E-40.

OMITTED

E-41.

DOCKET# EL00-95, 045, San Diego Gas & Electric Company v. Sellers of Energy and Ancillary Service Into Markets Operated by the California Independent System Operator Corporation and the California Power Exchange Corporation

OTHER#S EL00-98, 042, Investigation of Practices of the California Independent System Operator Corporation and the California Power Exchange Corporation

E-42.

DOCKET# ER02-199, 000, Mississippi Power Company

OTHER#S EL02-50, 000, Southern Company Services, Inc.

ER02-218, 000, Southern Company Services, Inc.

ER02-219, 000, Southern Company Services, Inc.

ER02-220, 000, Southern Company Services, Inc.

ER02-221, 000, Southern Company Services, Inc.

ER02-222, 000, Southern Company Services, Inc.

ER02-223, 000, Southern Company Services, Inc.

ER02-224, 000, Southern Company Services, Inc.

ER02-225, 000, Southern Company Services, Inc.

ER02-226, 000, Southern Company Services, Inc.

ER02-227, 000, Georgia Power Company

ER02-228, 000, Georgia Power Company

ER02-229, 000, Alabama Power Company

ER02-230, 000, Alabama Power Company

ER02-498, 000, Gulf Power Company

E-43.

DOCKET# ER02-484, 000, Midwest Independent Transmission System Operator, Inc.

E-44.

DOCKET# ER01-2644, 000, Colton Power, L.P.

OTHER#S ER01-2644, 001, Colton Power, L.P.

ER01-2644, 002, Colton Power, L.P.

ER01-2644, 003, Colton Power, L.P.

E-45.

DOCKET# ER02-489, 000, Midwest Independent Transmission System Operator, Inc.

E-46.

DOCKET# ER01-2685, 001, PacifiCorp Power Marketing, Inc.

E-47.

DOCKET# EL01-105, 000, The New Power Company v. PJM Interconnection L.L.C. (Closed Meeting Item)

E-48.

OMITTED

E-49.

DOCKET# ER02-562, 000, Michigan Electric Transmission Company

Miscellaneous Agenda

M-1.

RESERVED

Markets, Tariffs and Rates—Gas

G-1.

DOCKET# RP02-136, 000, Colorado Interstate Gas Company

G-2.

DOCKET# RP02-137, 000, Kern River Gas Transmission Company

G-3.

DOCKET# RP02-129, 000, Southern LNG Inc.

G-4.

DOCKET# RP02-132, 000, Viking Gas Transmission Company

G-5.

DOCKET# IS02-92, 000, Chevron Pipe Line Company

G-6.

DOCKET# IS02-109, 000, Platte Pipe Line Company

G-7.

DOCKET# RP01-190, 000, Kern River Gas Transmission Company

G-8.

DOCKET# RP00-334, 000, K N Wattenberg Transmission Limited Liability Company

OTHER#S RP00-334, 001, K N Wattenberg Transmission Limited Liability Company

RP00-630, 000, K N Wattenberg Transmission Limited Liability Company

G-9.

DOCKET# RP00-339, 000, Arkansas Western Pipeline, L.L.C.

G-10.

DOCKET# RP02-125, 000, Gulf South Pipeline Company, LP

G-11.

OMITTED

G-12.

DOCKET# RP01-259, 000, ANR Pipeline Company

OTHER#S RP01-259, 001, ANR Pipeline Company

G-13.

DOCKET# PR00-17, 000, Transok, LLC

OTHER#S PR00-17, 001, Transok, LLC

G-14.

DOCK,ET# PR01-6, 000, Enogex, Inc.

OTHER#S PR01-6, 001, Enogex, Inc.

G-15.

DOCKET# PR01-11, 000, PanEnergy Louisiana Intrastate, LLC

OTHER#S PR01-11, 001, PanEnergy Louisiana Intrastate, LLC

G-16.

DOCKET# RP01-246, 003, Natural Gas Pipeline Company of America

G-17.

DOCKET# RP01-76, 002, Northern Natural Gas Company

OTHER#S RP00-404, 001, Northern Natural Gas Company

RP01-76, 003, Northern Natural Gas Company

RP01-76, 004, Northern Natural Gas Company

RP01-382, 008, Northern Natural Gas Company

RP01-396, 002, Northern Natural Gas Company

G-18.

DOCKET# RP00-152, 001, Northern Natural Gas Company

G-19.

DOCKET# RP01-503, 001, Natural Gas Pipeline Company of America

G-20.

DOCKET# RP00-325, 006, Colorado Interstate Gas Company

OTHER#S RP01-38, 003, Colorado Interstate Gas Company

G-21.

DOCKET# RP00-399, 006, National Fuel Gas Supply Corporation

OTHER#S RP00-399, 007, National Fuel Gas Supply Corporation

RP01-2, 002, National Fuel Gas Supply Corporation

G-22.

DOCKET# RP01-622, 001, Mississippi River Transmission Corporation

OTHER#S RP01-623, 001, Mississippi River Transmission Corporation

RP01-623, 002, Mississippi River Transmission Corporation

G-23.

DOCKET# RP00-407, 001, High Island Offshore System, L.L.C.

OTHER#S RP00-407, 002, High Island Offshore System, L.L.C.

RP00-619, 002, High Island Offshore System, L.L.C.

RP00-619, 003, High Island Offshore System, L.L.C.

G-24.

DOCKET# RP01-624, 001, Gulf South Pipeline Company, LP

G-25.

DOCKET# RP02-39, 001, Columbia Gulf Transmission Company

OTHER#S RP02-39, 002, Columbia Gulf Transmission Company

G-26.

OMITTED

G-27.

DOCKET# RP02-99, 000, Shell Offshore Inc. (Closed Meeting Item)

G-28.

DOCKET# RP00-469, 001, East Tennessee Natural Gas Company

OTHER#S RP00-469, 000, East Tennessee Natural Gas Company

RP00-22, 000, East Tennessee Natural Gas Company

RP00-22, 002, East Tennessee Natural Gas Company

G-29.

DOCKET# RP00-394, 000, KO Transmission Company

G-30.

DOCKET# IS00-436, 000, Colonial Pipeline Company

G-31.

DOCKET# PR01-17, 000, Raptor Natural Pipeline LLC

G-32.

DOCKET# RM01-9, 000, Reporting of Natural Gas Sales to the California Market

G-33.

DOCKET# RP02-144, 000, Superior Natural Gas Corporation and Walter Oil & Gas Corporation v. Williams Gas Processing—Gulf Coast Company, L.P., Williams Field Services Company and Williams Gulf Coast Gathering Company, L.L.C. (Closed Meeting Item)

G-34.

The Possible Initiation of Investigation (Closed Meeting Item)

Energy Projects—Hydro

H-1.

DOCKET# AD02-5, 000, Hydro Licensing Status Workshop

H-2.

DOCKET# P-11944, 001, Symbiotics, LLC

H-3.

DOCKET# P-5, 067, PPL Montana, LLC and Confederated Salish and Kootenai Tribes of the Flathead Nation

H-4.

DOCKET# P-1962, 038, Pacific Gas & Electric Company

OTHER#S P-1962, 040, Pacific Gas & Electric Company

H-5.

DOCKET# P-11925, 001, Symbiotics, LLC

OTHER#S P-12064, 001, Ochoco Irrigation District

H-6.

DOCKET# UL97-11, 002, PacifiCorp

H-7.

DOCKET# P-11959, 001, Symbiotics, LLC

H-8.

OMITTED

H-9.

DOCKET# P-2145, 040, Public Utility District No. 1 of Chelan County, Washington

H-10.

DOCKET# P-2413, 046, Georgia Power Company

H-11.

OMITTED

H-12.

DOCKET# DI98-2, 002, Alaska Power & Telephone Company

H-13.

DOCKET# P-2436, 154, Consumers Energy Company

OTHER#S P-2447, 144, Consumers Energy Company

P-2448, 148, Consumers Energy Company

P-2449, 127, Consumers Energy Company

P-2450, 124, Consumers Energy Company

P-2451, 129, Consumers Energy Company

P-2452, 134, Consumers Energy Company

P-2453, 154, Consumers Energy Company

P-2468, 130, Consumers Energy Company

P-2580, 172, Consumers Energy Company

P-2599, 141, Consumers Energy Company

Energy Projects—Certificates

C-1.

DOCKET# AD02-9, 000, Pipeline Expansion During 2001

C-2.

DOCKET# CP01-417, 000, Transcontinental Gas Pipe Line Corporation

C-3.

DOCKET# CP93-253, 004, El Paso Natural Gas Company

C-4.

DOCKET# CP01-45, 001, Colorado Interstate Gas Company

OTHER#S CP01-45, 000, Colorado Interstate Gas Company

C-5.

DOCKET# CP01-79, 001, ANR Pipeline Company

C-6.

DOCKET# CP01-389, 002, Transcontinental Gas Pipe Line Corporation

OTHER#S CP01-389, 001, Transcontinental Gas Pipe Line Corporation

C-7.

DOCKET# CP00-412, 001, Cross Bay Pipeline Company, L.L.C. and Transcontinental Gas Pipe Line Corporation

OTHER#S CP00-413, 001, Cross Bay Pipeline Company, L.L.C.

CP00-414, 001, Cross Bay Pipeline Company, L.L.C.

C-8.

DOCKET# CP01-153, 000, Tuscarora Gas Transmission Company

OTHER#S CP01-153, 001, Tuscarora Gas Transmission Company

C-9.

DOCKET# CP01-46, 000, National Fuel Gas Supply Corporation (Closed Meeting Item)

Linwood A. Watson, Jr.,
Acting Secretary.

[FR Doc. 02-2065 Filed 1-23-02; 4:24 pm]

BILLING CODE 6717-01-P